DEPARTMENT OF TRANSPORTATION

Federal Aviation Administration

14 CFR Part 39

[Docket No. 96-NM-226-AD; Amendment 39-11562; AD 2000-03-05]

RIN 2120-AA64

Airworthiness Directives; Boeing Model 737-200 Series Airplanes Modified in Accordance with Supplemental Type Certificate (STC) ST00969AT

AGENCY: Federal Aviation Administration, DOT.

ACTION: Final rule.

SUMMARY: This amendment adopts a new airworthiness directive (AD), applicable to certain Boeing Model 737-200 series airplanes that requires removal of the existing emergency floor path lighting system and replacement with an FAA-approved emergency floor path lighting system. This amendment is prompted by information indicating that the existing emergency floor path lighting system does not provide adequate lighting and cueing for safe evacuation of the airplane in the event of an emergency. The actions specified by this AD are intended to prevent such inadequate lighting and cueing, which could delay or impede the flight crew and passengers when exiting the airplane during an emergency.

EFFECTIVE DATE: March 16, 2000.

ADDRESSES: Information pertaining to this amendment may be examined at the Federal Aviation Administration (FAA), Transport Airplane Directorate, Rules Docket, 1601 Lind Avenue, SW., Renton, Washington; or at the FAA, Small Airplane Directorate, Campus Building, 1701 Columbia Avenue, Suite 2-160, College Park, Georgia.

FOR FURTHER INFORMATION CONTACT: Eugene Evans, Aerospace Engineer, ACE-116A, FAA, Small Airplane Directorate, Atlanta Aircraft Certification Office, One Crown Center, 1895 Phoenix Boulevard, suite 450, Atlanta, Georgia 30349; telephone (770) 703-6081; fax (770) 703-6097.

SUPPLEMENTARY INFORMATION: A proposal to amend part 39 of the Federal Aviation Regulations (14 CFR part 39) to include an airworthiness directive (AD) that is applicable to certain Boeing Model 737-200 series airplanes was published in the Federal Register on June 23, 1999 (64 FR 33443). That action proposed to require removal of the existing emergency floor path lighting system and replacement with an FAA-approved emergency floor path lighting system. That proposal was prompted by information indicating that the existing emergency floor path lighting system does not provide adequate lighting and cueing for safe evacuation of the airplane in the event of an emergency. The actions specified by that proposal are intended to prevent such inadequate lighting and cueing, which could delay or impede the flight crew and passengers when exiting the airplane during an emergency.

Interested persons have been afforded an opportunity to participate in the making of this amendment. Due consideration has been given to the comments received.

One commenter concurs with the proposed rule.

Another commenter requests that the compliance time be extended to six months so that it will have adequate time to integrate the affected airplanes into the maintenance cycle.

The FAA concurs. The FAA has determined that such an extension of the compliance time to within 6 months after the effective date of the AD will not adversely affect safety. The final rule has been revised accordingly.

Conclusion

After careful review of the available data, including the comments noted above, the FAA has determined that air safety and the public interest require the adoption of the rule with the changes previously described. The FAA has determined that these changes will neither increase the economic burden on any operator nor increase the scope of the AD.

Cost Impact

There are approximately 40 Boeing Model 737-200 series airplanes of the affected design in the worldwide fleet. The FAA estimates that 4 airplanes of U.S. registry will be affected by this AD, that it will take approximately 12 work hours per airplane to accomplish the removal of the system, and that the average labor rate is $60 per work hour. It will take approximately 40 work hours per airplane to accomplish the required replacement with an FAA-approved system. Required parts for the replacement will cost approximately $10,000 for a new system, per airplane. Based on these figures, the cost impact of the AD on U.S. operators is estimated to be $524,800, or $13,120 per airplane.

The cost impact figure discussed above is based on assumptions that no operator has yet accomplished any of the requirements of this AD action, and that no operator would accomplish those actions in the future if this AD were not adopted.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action: (1) Is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-03-05 Boeing: Amendment 39-11562. Docket 96-NM-226-AD.

Applicability: Model 737-200 series airplanes equipped with SAF-T-GL0 Aerospace Limited emergency floor path lighting systems installed in accordance with Supplemental Type Certificate (STC) ST00969AT, certificated in any category.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent inadequate lighting and cueing of the emergency floor path lighting system, which could delay or impede the flight crew and passengers when exiting the airplane during an emergency, accomplish the following:

(a) Within 6 months after the effective date of this AD, remove the existing photoluminescent emergency floor path lighting system from the airplane. Replace it with an emergency floor path lighting system in accordance with Supplemental Type Certificate ST01829AT, dated February 11, 1999, or an FAA-approved emergency floor path lighting system that is installed in accordance with a method approved by the Manager, Atlanta Aircraft Certification Office (ACO), FAA, Small Airplane Directorate.

(b) An alternative method of compliance or adjustment of the compliance time that provides an acceptable level of safety may be used if approved by the Manager, Atlanta ACO. Operators shall submit their requests through an appropriate FAA Principal Maintenance Inspector, who may add comments and then send it to the Manager, Atlanta ACO.

Note 2: Information concerning the existence of approved alternative methods of compliance with this AD, if any, may be obtained from the Atlanta ACO.

(c) Special flight permits may be issued in accordance with sections 21.197 and 21.199 of the Federal Aviation Regulations (14 CFR 21.197 and 21.199) to operate the airplane to a location where the requirements of this AD can be accomplished.

(d) This amendment becomes effective on March 16, 2000.

Issued in Renton, Washington, on February 4, 2000.
Donald L. Riggin,
Acting Manager, Transport Airplane Directorate, Aircraft Certification Service.

[FR Doc. 00-3131 Filed 2-9-00; 8:45 am]

BILLING CODE 4910-13-U